NATIONAL SCIENCE FOUNDATION

Notice of Permit Modification Received Under the Antarctic Conservation Act of 1978

AGENCY: National Science Foundation.

ACTION: Notice of Permit Modification Request.

SUMMARY: The National Science Foundation (NSF) is required to publish a notice of requests to modify permits issued to conduct activities regulated under the Antarctic Conservation Act of 1978. This is the required notice of a requested permit modification.

DATES: Interested parties are invited to submit written data, comments, or views with respect to this permit application by November 5, 2015. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2015-011) to Dr. Ari Friedlaender on December 3, 2014. The issued permit allows the applicant to collect skin and blubber biopsy samples of humpback, Antarctic minke, killer, and Arnoux's beaked whales as well as photo ID takes of the aforementioned species, and satellite tag deployment on humpback whales.

Now the applicant proposes a modification to the permit to increase the number of satellite tag deployments on humpbacks from 10 to 20 tags, and requests to add 10 dart tag takes and 20 suction cup tag takes for both humpbacks and Antarctic minke whales. These takes would be covered by NMFS permits 14809 and NMFS 14856-01.

Location: Antarctic Peninsula between Marguerite Bay and the Gerlache Strait, inshore waters.

Dates: January 1, 2016 to December 31, 2018.

Nadene G. Kennedy,
Polar Coordination Specialist, Division of Polar Programs.

[FR Doc. 2015-25309 Filed 10-5-15; 8:45 am]

BILLING CODE 7555-01-P